DEPARTMENT OF COMMERCE

International Trade Administration

(C-533-825)

Polyethylene Terephthalate Film, Sheet, and Strip from India: Notice of Partial Rescission of Administrative Review of the Countervailing Duty Order

AGENCY: Import Administration, International Trade Administration, Department of Commerce.

EFFECTIVE DATE: April 10, 2007

FOR FURTHER INFORMATION CONTACT: Elfi Blum, Nicholas Czajkowski, or Toni Page, AD/CVD Operations, Office 6, Import Administration, International Trade Administration, U.S. Department of Commerce, 14th Street and Constitution Avenue, NW, Washington, DC 20230; telephone: (202) 482-0197, (202) 482-1395, or (202) 482-1398, respectively.

SUPPLEMENTARY INFORMATION:

Background

On July 3, 2006, the Department of Commerce (the Department) published a notice of opportunity to request an administrative review of the countervailing duty order on Polyethylene Terephthalate (PET) Film, Sheet, and Strip from India. See Antidumping or Countervailing Duty Order, Finding, or Suspended Investigation; Opportunity To Request Administrative Review, 71 FR 37890 (July 3, 2006). On July 26, 2006, MTZ Polyfilms, Ltd. (MTZ) timely requested that the Department conduct an administrative review of merchandise it produced and exported. On July 31, 2006, Polyplex Corporation, Ltd. (Polyplex), Jindal Poly Films Limited of India (Jindal), and Garware Polyester, Ltd. (Garware) also timely requested that the Department conduct an administrative review of merchandise they produced and exported.

Polyplex withdrew its request for an administrative review on August 22, 2006, before the initiation of this review. Shortly thereafter, the Department published a notice of the initiation of the countervailing duty administrative review of PET Film from India for MTZ, Garware, and Jindal for the period January 1, 2005 through December 31, 2005. See Initiation of Antidumping and Countervailing Duty Administrative Reviews and Requests for Revocation in Part, 71 FR 51573 (August 30, 2006). On November 28, 2006, Jindal withdrew its request for an administrative review.

Partial Rescission of Review

The Department's regulations at section 351.213(d)(1) provide that the Department will rescind an administrative review if the party that requested the review withdraws its request for review within 90 days of the date of publication of the notice of initiation of the requested review, or withdraws its request at a later date if the Department determines that it is reasonable to extend the time limit for withdrawing the request. Jindal submitted its request within the 90 day limit set by the regulations. Since no other parties requested a review of Jindal, the Department is rescinding, in part, the administrative review of the countervailing duty order on PET film from India for the period January 1, 2005 through December 31, 2005, for Jindal. Both Garware and MTZ remain subject to this administrative review. The preliminary results for this administrative review for these companies are currently due July 31, 2007.

Assessment

The Department will instruct U.S. Customs and Border Protection (CBP) to assess countervailing duties on all appropriate entries. Jindal shall be assessed countervailing duty rates equal to the cash deposit of the estimated countervailing duties required at the time of entry, or withdrawal from warehouse, for consumption, in accordance with 19 CFR 351.212(c)(1)(i). The Department will issue appropriate assessment instructions directly to CBP within 15 days of publication of this notice.

Cash Deposit Rates

Jindal's cash deposit rate will be the rate in effect on the date of entry. This cash deposit requirement shall remain in effect until publication of the final results of this administrative review.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(1) and 777(i) of the Tariff Act of 1930, as amended, and 19 CFR 351.213(d)(4).

Dated: April 4, 2007.
Stephen J. Claeys,
Deputy Assistant Secretary for Import Administration.

[FR Doc. E7-6748 Filed 4-9-07; 8:45 am]

BILLING CODE 3510-DS-S